DEPARTMENT OF TRANSPORTATION

Federal Highway Administration

Environmental Impact Statement: Suffolk County, NY

AGENCY: Federal Highway Administration (FHWA), DOT.

ACTION: Notice of Intent.

SUMMARY: The FHWA is issuing this notice to advise the public that an environmental impact statement will be prepared for a proposed highway project in Suffolk County, New York.

FOR FURTHER INFORMATION CONTACT: Subimal Chakraborti, P.E., Regional Director, NYSDOT Region 10; State Office Building; 250 Veterans Memorial Highway; Hauppauge, NY 11788; Telephone: (631) 952-6632.

or

Robert E. Arnold, Division Administrator, Federal Highway Administration, New York Division, Leo W. O'Brien Federal Building, Room 719, Clinton Avenue and North Pearl Street, Albany, New York 12207, Telephone: (518) 431-4127.

SUPPLEMENTARY INFORMATION: The FHWA, in cooperation with the New York State Department of Transportation (NYSDOT) will prepare an environmental impact statement (EIS) on a proposal to reconstruct NYS Route 347 (Project Identification Number 0054.05) in Suffolk County, New York. The proposed improvements will involve the reconstruction of approximately 15 miles of the existing route from Northern State Parkway to RTE 25A in the Towns of Smithtown, Islip and Brookhaven and through the incorporated Village of Lake Grove. The improvements considered are necessary to provide for the existing and projected traffic demand along Route 347 and to improve safety. Also, included in this proposal are two new ramps on Northern State Parkway and three new grade separation improvements on Route 347 at the intersections of Route 454, Route 25 and Nicolls Road.

Alternatives under consideration include: (1) Taking no action; (2) Eight lane Arterial from Northern State Parkway to Route 454 and six lane arterial east of Route 454 to Route 25A with three grade separations and two new ramps on Northern State Parkway.

Letters describing the proposed action and soliciting comments will be sent to appropriate Federal, State, and local agencies, and to private organizations and citizens who have previously expressed interest in this proposal. Public information meetings will be held in the Towns of Smithtown and Brookhaven between winter of 2004 and summer of 2006. In addition, a public hearing will be held. Public notice will be given of the time and place of the meetings and hearing. The draft EIS, when prepared, will be available for public and agency review and comment. Early public involvement and coordination efforts to identify the range of reasonable alternatives and social, economic and environmental issues to be addressed resulted in a Route 347 Corridor Study Report completed in December 2001. Also, public meetings were held for this project in May of 2002 as part of the scoping process. No additional NEPA scoping meetings are planned at this time.

To ensure that the full range of issues related to this proposed action are addressed and all significant issues identified, comments and suggestions are invited from all interested parties. Comments or questions concerning this proposed action and the EIS should be directed to the NYSDOT or FHWA at the addresses provided above.

(Catalog of Federal Domestic Assistance Program Number 20.205, Highway Research, Planning and Construction. The regulations implementing Executive Order 12372 regarding intergovernmental consultation on Federal programs and activities apply to this program.)

Authority: 23 U.S.C. 315; 23 CFR 771.123

Issued on: May 26, 2004.
Douglas P. Conlan,
District Operations Engineer, Federal Highway Administration, Albany, New York.

[FR Doc. 04-12911 Filed 6-7-04; 8:45 am]

BILLING CODE 4910-22-M